DEPARTMENT OF AGRICULTURE

Agricultural Marketing Service

7 CFR Part 929

[Doc. No. AMS-SC-23-0015]

Cranberries Grown in the States of Massachusetts, Rhode Island, Connecticut, New Jersey, Wisconsin, Michigan, Minnesota, Oregon, Washington, and Long Island in the State of New York; Continuance Referendum

AGENCY: Agricultural Marketing Service, USDA.

ACTION: Referendum order.

SUMMARY: This document directs that a referendum be conducted among eligible cranberry producers to determine whether they favor continuance of the marketing order regulating the handling of cranberries grown in the States of Massachusetts, Rhode Island, Connecticut, New Jersey, Wisconsin, Michigan, Minnesota, Oregon, Washington, and Long Island in the State of New York.

DATES: The referendum will be conducted from June 9 through June 30, 2023. Only current producers of cranberries within the production area who also grew cranberries in the production area during the period September 1, 2021, through August 31, 2022, are eligible to vote in this referendum. The U.S. Department of Agriculture (USDA) will provide the option for ballots to be returned electronically. Further details will be provided in the ballot instructions. Ballots returned via express mail or electronic mail must show proof of delivery by no later than 11:59 p.m. Eastern Time on June 30, 2023, to be counted.

ADDRESSES: Copies of the marketing order may be obtained from the Southeast Region Branch, Market Development Division, Specialty Crops Program, AMS, USDA, 1124 First Street South, Winter Haven, FL 33880; Telephone: (863) 324-3375; or from the Market Development Division, Specialty Crops Program, AMS, USDA, 1400 Independence Avenue SW, STOP 0237, Washington, DC 20250-0237; Telephone (202) 720-8085; or on the internet: https://www.ams.usda.gov/rules-regulations/moa/commodities.

FOR FURTHER INFORMATION CONTACT: Jennie M. Varela, Marketing Specialist, or Christian D. Nissen, Chief, Southeast Region Branch, Market Development Division, Specialty Crops Program, AMS, USDA, 1124 First Street South, Winter Haven, FL 33880; Telephone: (863) 324-3375, Fax: (863) 291-8614, or Email: Jennie.Varela@usda.gov or Christian.Nissen@usda.gov.

SUPPLEMENTARY INFORMATION: Pursuant to Marketing Agreement and Order No. 929, as amended (7 CFR part 929), hereinafter referred to as the “Order,” and the applicable provisions of the Agricultural Marketing Agreement Act of 1937, as amended (7 U.S.C. 601-674), hereinafter referred to as the “Act,” it is hereby directed that a referendum be conducted to ascertain whether continuance of the Order is favored by producers. The referendum will be conducted from June 9 through June 30, 2023, among eligible cranberry producers in the production area. Only current cranberry producers who were engaged in the production of cranberries in the production area during the period of September 1, 2021, through August 31, 2022, may participate in the continuance referendum.

USDA has determined that continuance referenda are an effective means for determining whether producers favor the continuation of marketing order programs. USDA would consider termination of the Order if a majority of producers voting in the referendum representing more than 50 percent of the volume of cranberries represented in the referendum favor termination of the program.

In accordance with the Paperwork Reduction Act of 1995 (44 U.S.C. Chapter 35), the ballot materials used in the referendum have been submitted to and approved by the Office of Management and Budget (OMB) and have been assigned OMB No. 0581-0189, Fruit Crops. It has been estimated it will take an average of 20 minutes for each of the approximately 1,100 cranberry producers in the production area to cast a ballot. Participation is voluntary. Ballots postmarked after June 30, 2023, will not be included in the vote tabulation. Ballots delivered to USDA via express mail or returned electronically must show proof of delivery by no later than 11:59 p.m. Eastern Time (ET) on June 30, 2023.

Dolores Lowenstine, Christian D. Nissen, and Jennie M. Varela of the Southeast Region Branch, Market Development Division, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 et seq.).

Ballots and voting instructions will be sent by U.S. mail, United Parcel Service, or through electronic mail to all producers of record and may also be obtained from the referendum agents or from their appointees.

List of Subjects in 7 CFR Part 929

Cranberries, Marketing agreements, Reporting and recordkeeping requirements.

Authority: 7 U.S.C. 601-674.

Erin Morris,
Associate Administrator, Agricultural Marketing Service.

[FR Doc. 2023-11151 Filed 5-24-23; 8:45 am]

BILLING CODE P